DEPARTMENT OF HOMELAND SECURITY

Federal Emergency Management Agency

44 CFR Part 67

[Docket No. FEMA-D-7822]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) #Depth in feet above ground: Effective | *Elevation in feet (NGVD) +Elevation in feet (NAVD) #Depth in feet above ground: Modified | Communities affected
Lexington-Fayette Urban County Government, Kentucky, and Incorporated Areas
Bowman Mill Tributary | At the confluence with South Elkhorn Creek | None | +890 | Lexington-Fayette Urban County Government.
| Approximately 920 feet upstream of Palomar Boulevard | None | +940
Bryant Tributary | At the confluence with North Elkhorn Creek | None | +943 | Lexington-Fayette Urban County Government.
| Approximately 2,200 feet upstream of Polo Club Boulevard | None | +985
Cave Hill Tributary | At the confluence with Bowman Mill Tributary | None | +907 | Lexington-Fayette Urban County Government.
| Approximately 2,780 feet upstream of the confluence with Bowman Mill Tributary | None | +954
Southpoint Tributary | At the confluence with West Hickman Creek | None | +890 | Lexington-Fayette Urban County Government.
| Approximately 2,800 feet upstream of Southpoint Drive | None | +947
Wolf Run | Approximately 280 feet upstream of Beacon Hill Tributary | +923 | +922 | Lexington-Fayette Urban County Government.
| At Nicholasville Road | None | +990
* National Geodetic Vertical Datum.
+ North American Vertical Datum.
# Depth in feet above ground.
ADDRESSES
Lexington-Fayette Urban County Government
Maps are available for inspection at Division of Planning, Current Planning Section, 101 East Vine Street, Lexington, KY 40507.
Send comments to The Honorable Jim Newberry, Mayor, Lexington-Fayette Urban County Government, 200 East Main Street, Lexington, KY 40507.
Tate County, Mississippi, and Incorporated Areas
Arkabutla Reservoir | Arkabutla Reservoir | None | +245 | Town of Coldwater, Unincorporated Areas of Tate County.
Coldwater River | 0.7 Miles Downstream of Arkabutla Reservior Dam | None | +195 | Unincorporated Areas of Tate County.
| At County Boundary | None | +252
Pidgeon Roost Creek | 0.6 Miles Downstream of Pidgeon Roost Road | None | +292 | Unincorporated Areas of Tate County.
| 400 Ft Downstream of Pidgeon Roost Road | None | +295
* National Geodetic Vertical Datum.
+ North American Vertical Datum.
# Depth in feet above ground.
ADDRESSES
Town of Coldwater
Maps are available for inspection at 444 Court Street, Coldwater, MS 38618.
Send comments to The Honorable Jessie Edwards, Mayor, Town of Coldwater, 444 Court Street, Coldwater, MS 38618.
Unincorporated Areas of Tate County
Maps are available for inspection at 201 Ward Street, Senatobia, MS 38668.
Send comments to Mr. James Sowell, President, Tate County Board of Supervisors, 201 Ward Street, Senatobia, MS 38668.
Clay County, North Carolina and Incorporated Areas
Blair Creek | At the confluence with Hiwassee River | None | +1,800 | Clay County (Unincorporated Areas).
| Approximately 0.4 mile upstream of NC-69 | None | +1,840
Brasstown Creek | At the confluence with Hiwassee River | None | +1,587 | Clay County (Unincorporated Areas).
| Approximately 400 feet upstream of West Road (State Road 1111) | None | +1,713
Chatuga Lake | Entire shoreline within Clay County | None | +1,929 | Clay County (Unincorporated Areas).
Coleman Creek | At the confluence with Hyatt Mill Creek | None | +1,934 | Clay County (Unincorporated Areas).
| Approximately 800 feet upstream of the confluence with Hyatt Mill Creek | None | +1,934
Crawford Creek | At the confluence with Brasstown Creek | None | +1,698 | Clay County (Unincorporated Areas).
| Approximately 1,430 feet upstream of Pine Ridge Drive | None | +1,837
Downing Creek | At the confluence with Hiwassee River | None | +1,796 | Clay County (Unincorporated Areas).
| Approximately 0.4 mile upstream of Lawrence Smith Road (State Road 1324) | None | +1,959
Eagle Fork Creek | At the confluence with Shooting Creek | None | +2,045 | Clay County (Unincorporated Areas).
| Approximately 200 feet upstream of Sally Gap Road | None | +2,211
Fires Creek | At the confluence with Hiwassee River | None | +1,724 | Clay County (Unincorporated Areas).
| Approximately 1.5 miles upstream of Fires Creek Road (State Road 1300) | None | +1,834
Giesky Creek | At the confluence with Shooting Creek | None | +1,981 | Clay County (Unincorporated Areas).
| Approximately 1,530 feet upstream of Sally Gap Road | None | +2,172
Gumlog Creek | At the confluence with Brasstown Creek | None | +1,669 | Clay County (Unincorporated Areas).
| Approximately 300 feet upstream of Pine Log Road (State Road 1104) | None | +1,703
Hiwassee River | Approximately 500 feet downstream of Old Highway 64W (State Road 1100) | None | +1,590 | Clay County (Unincorporated Areas), Town of Hayesville.
| Approximately 1,380 feet upstream of the confluence of Hiwassee River Tributary 1 | None | +1,885
Tributary 1 | At the confluence with Hiwassee River | None | +1,811 | Clay County (Unincorporated Areas).
| Approximately 0.5 mile upstream of Chatuge Dam Road (State Road 1146) | None | +1,811
Hothouse Branch | At the confluence with Shooting Creek | None | +1,943 | Clay County (Unincorporated Areas).
| Approximately 0.7 mile upstream of Fred and Carl Lane | None | +2,015
Hyatt Mill Creek | At the confluence with Hiwassee River | None | +1,802 | Clay County (Unincorporated Areas).
| At the confluence of Coleman Creek | None | +1,934
Licklog Creek | Approximately 200 feet downstream of U.S. Highway 64 | None | +1,929 | Clay County (Unincorporated Areas).
| Approximately 450 feet upstream of Peckerwood Road (State Road 1328) | None | +2,005
Muskrat Branch | At the confluence with Shooting Creek and Thompson Creek | None | +2,183 | Clay County (Unincorporated Areas).
| Approximately 1.5 miles upstream of the confluence with Shooting Creek and Thompson Creek | None | +2,429
Nantahala River | At the Clay/Macon County boundary | None | +3,013 | Clay County (Unincorporated Areas).
| Approximately 450 feet downstream of Thunderstruck Lane | None | +3,089
Pinelong Creek | At the confluence with Brasstown Creek | None | +1,641 | Clay County (Unincorporated Areas).
| Approximately 1.0 mile upstream of Royal Oaks Trail | None | +1,914
Qually Creek | At the confluence with Hiwassee River | None | +1,788 | Clay County (Unincorporated Areas).
| Approximately 0.5 mile upstream of Ali Drive | None | +1,837
Shooting Creek | Approximately 800 feet upstream of Old Highway 64E | None | +1,929 | Clay County (Unincorporated Areas).
| Approximately 90 feet upstream of Old Highway 64E | None | +2,183
Sweetwater Creek | At the confluence with Hiwassee River | None | +1,686 | Clay County (Unincorporated Areas).
| Approximately 1.2 miles upstream of U.S. Highway 64 | None | +1,844
Thompson Creek | At the confluence with Shooting Creek | None | +2,183 | Clay County (Unincorporated Areas).
| Approximately 0.5 mile upstream of Muskrat Creek Road (State Road 1173) | None | +2,283
Town Creek | At the confluence with Hiwassee River | None | +1,793 | Clay County (Unincorporated Areas), Town of Hayesville.
| Approximately 0.5 mile upstream of Anderson Street | None | +1,831
Tusquitee Creek | At the confluence with Hiwassee River | None | +1,783 | Clay County (Unincorporated Areas).
| Approximately 2.0 miles upstream of Chairmaker Drive | None | +2,214
Winchester Creek | At the confluence with Brasstown Creek | None | +1,671 | Clay County (Unincorporated Areas).
| Approximately 1,090 feet upstream of West Gum Log Road (State Road 1107) | None | +1,716
* National Geodetic Vertical Datum.
+ North American Vertical Datum.
# Depth in feet above ground.
ADDRESSES
Clay County
Maps are available for inspection at Clay County Building, 33 Main Street, Hayesville, NC.
Send comments to Mr. Paul Leek, Clay County Manager, P.O. Box 118, Hayesville, NC 28904.
Town of Hayesville
Maps are available for inspection at Hayesville Town Hall, 235 Sanderson Street, Hayesville, NC.
Send comments to The Honorable Harrell Moore, Mayor of the Town of Hayesville, P.O. Box 235, Hayesville, NC 28904.
Dyer County, Tennessee, and Incorporated Areas
Mississippi River | Approximately 720 feet downstream from the confluence of Obion River | None | +268 | Unincorporated Areas of Dyer County.
| County boundary | None | +281
* National Geodetic Vertical Datum.
+ North American Vertical Datum.
# Depth in feet above ground.
ADDRESSES
Unincorporated Areas of Dyer County
Maps are available for inspection at Building Inspector's Office, #1 Veterans Square, Dyersburg, TN 38025.
Send comments to The Honorable Richard Hill, Mayor, Dyer County, Dyer County Courthouse, P.O. Box 1360, Dyersburg, TN 38025-1360.

Catalog of Federal Domestic Assistance No. 97.022, “Flood Insurance.”

Dated: September 21, 2007.
David I. Maurstad,
Federal Insurance Administrator of the National Flood Insurance Program, Department of Homeland Security, Federal Emergency Management Agency.

[FR Doc. E7-19680 Filed 10-4-07; 8:45 am]

BILLING CODE 9110-12-P